DEPARTMENT OF AGRICULTURE

Olympic National Forest; Title II Resource Advisory Committee Meeting Advisory

AGENCY: Olympic National Forest, USDA Forest Service.

ACTION: Notice of meeting.

SUMMARY: The Olympic Peninsula Resource Advisory Committee will meet this July in Montesano, Washington. The purpose of this meeting will be to review project proposals and provide recommendations for Title II projects to be funded by the Secure Rural Schools and Community Self-Determination Act.

DATES: The meeting will be held on July 14, 2010, from 8:30 a.m. until 4:30 p.m. A public input session will be provided at the meeting. Comments will be limited to three minutes per person.

ADDRESSES: The meeting will be held at the Montesano City Hall, located at 112 North Main Street, Montesano, WA 98563.

For Additional Information Contact: Dale Horn, Forest Supervisor, the Designated Federal Official for the Olympic National Forest Resource Advisory Committee, at 360-956-2300, 1835 Black Lake Blvd., SW., Olympia, WA 98512.

SUPPLEMENTARY INFORMATION: This meeting is open to the public. Project discussion will be limited to Resource Advisory Committee members and Forest Service personnel. However, a public input session will be provided on the agenda, and individuals will have the opportunity to address the committee at that time.

Dated: June 18, 2010.
Luis Santoyo,
Acting Forest Supervisor.

[FR Doc. 2010-15310 Filed 6-24-10; 8:45 am]

BILLING CODE M